DEPARTMENT OF THE INTERIOR

Office of the Secretary

[DT20400000 DST000000.T7AC00 15XD0120AF]

Privacy Act of 1974, as Amended; Notice To Amend an Existing System of Records

AGENCY: Office of the Special Trustee for American Indians, Interior.

ACTION: Notice of amendment to an existing system of records.

SUMMARY: Pursuant to the provisions of the Privacy Act of 1974, as amended, the Department of the Interior is issuing a public notice of its intent to amend the Office of the Special Trustee for American Indians Privacy Act system of records, “Individual Indian Money (IIM) Trust Funds-Interior, OS-02,” to combine the existing system of records with the OST Privacy Act system of records, “Accounting Reconciliation Tool (ART)—Interior, OS-11” into one system of records for efficiency purposes and to promote the overall streamlining and management of Department of the Interior Privacy Act systems of records. This amendment will also update the system location, categories of individuals covered by the system, categories of records in the system, authority for maintenance of the system, storage, safeguards, retention and disposal, system manager and address, notification procedures, records access and contesting procedures, records source categories, and the routine uses to include activities related to land consolidation of fractionated lands.

DATES: Comments must be received by February 17, 2015. The amendments to the system will be effective February 17, 2015.

ADDRESSES: Any person interested in commenting on this notice may do so by: submitting comments in writing to Veronica Herkshan, Office of the Special Trustee for American Indians Privacy Act Officer, 4400 Masthead Street NE., Albuquerque, New Mexico 87109; hand-delivering comments to Veronica Herkshan, Office of the Special Trustee for American Indians Privacy Act Officer, 4400 Masthead Street NE., Albuquerque, New Mexico, 87109; or emailing comments to veronica _herkshan@ost.doi.gov.

FOR FURTHER INFORMATION CONTACT: Chief of Staff, Office of the Special Trustee for American Indians, 1849 C Street NW., Room 3254, Washington, DC 20240, or by telephone at 202-208-4866.

SUPPLEMENTARY INFORMATION

I. Background

The Department of the Interior (DOI), Office of the Special Trustee for American Indians (OST), maintains the “Individual Indian Money (IIM) Trust Funds—Interior, OS-02,” system of records. Due to a recent reorganization of OST and the Office of Historical Accounting, DOI is proposing to combine the OST Privacy Act system of records, “Individual Indian Money (IIM) Trust Funds—Interior, OS-02,” with the OST Privacy Act system of records, “Accounting Reconciliation Tool (ART)—Interior, OS-11,” for efficiency purposes and to promote the overall streamlining and management of DOI Privacy Act systems of records. The two systems have the same authorities and purpose, to manage the collection, distribution, and disbursement of Indian Trust land income; are managed by the same system manager within OST; and have the same or similar categories of records, categories of individuals, and routine uses.

The IIM system will assist OST in meeting the fiduciary responsibilities set forth in the American Indian Trust Fund Management Reform Act of 1994 including management of the receipt, investment, disbursement and administration of money held in trust for individual Indians and Alaskan Natives (or their heirs), and Indian Tribes; and ensure timely, accurate, and consistent responses to beneficiary inquiries. The system also assists the OST in providing litigation support in analyzing and reconciling the historical collection, distribution, and disbursement of income from IIM accounts, Indian trust land, and other revenue sources. The amendments to this system includes updating the system locations, categories of individuals covered by the system, categories of records in the system, authority for maintenance of the system, storage, safeguards, retention and disposal, system manager and address, notification procedures, records access and contesting procedures, records source categories, and updating the routine uses to include activities related to land consolidation of fractionated lands. The Individual Indian Money (IIM) Trust Funds—Interior, OS-02 system notice was last published in the Federal Register on December 19, 2008, 73 FR 77824. The Accounting Reconciliation Tool (ART)—Interior, OS-11 system notice was last published in the Federal Register on July 31, 2008, 73 FR 44759. Upon final publication of the amended Individual Indian Money (IIM) Trust Funds—Interior, OS-02 system notice, DOI will publish a deletion notice for the Accounting Reconciliation Tool (ART)—Interior, OS-11 system notice to remove it from DOI's inventory of systems of records notices.

The amendments to the system will be effective as proposed at the end of the comment period (the comment period will end 40 days after the publication of this notice in the Federal Register), unless comments are received which would require a contrary determination. DOI will publish a revised notice if changes are made based upon a review of the comments received.

II. Privacy Act

The Privacy Act of 1974, as amended (5 U.S.C. 552a), embodies fair information practice principles in a statutory framework governing the means by which Federal agencies collect, maintain, use, and disseminate individuals' personal information. The Privacy Act applies to records about individuals that is maintained in a “system of records.” A “system of records” is a group of any records under the control of an agency for which information about an individual is retrieved by the name or by some identifying number, symbol, or other identifying particular assigned to the individual. The Privacy Act defines an individual as a U.S. citizen or lawful permanent resident. As a matter of policy, DOI extends administrative Privacy Act protections to all individuals. Individuals may request access to their own records that are maintained in a system of records in the possession or under the control of the DOI by complying with DOI Privacy Act regulations at 43 CFR part 2, subpart K.

The Privacy Act requires each agency to publish in the Federal Register a description denoting the type and character of each system of records that the agency maintains, the routine uses that are contained in each system in order to make agency record keeping practices transparent, to notify individuals regarding the uses of their records, and to assist individuals to more easily find such records within the agency. The amended system notice for the “Individual Indian Money (IIM) Trust Funds—Interior, OS-02,” is published in its entirety below.

In accordance with 5 U.S.C. 552a(r), DOI has provided a report of this system of records to the Office of Management and Budget and to Congress.

III. Public Disclosure

Before including your address, phone number, email address, or other personal identifying information in your comment, you should be aware that your entire comment, including your personal identifying information, may be made publicly available at any time. While you can ask us in your comment to withhold your personal identifying information from public review, we cannot guarantee that we will be able to do so.

Date: December 29, 2014.
Veronica J. Herkshan,
Privacy Act Officer, Office of the Special Trustee for American Indians.

System Name:

Individual Indian Money (IIM) Trust Funds—Interior, OS-02.

Security Classification:

Unclassified.

System Locations:

The system is located and centrally managed at OST, U.S. Department of the Interior, 4400 Masthead Street, NE., Albuquerque, New Mexico 87109. Records are also located at the American Indian Records Repository, 17501 West 98th Street, Lenexa, Kansas 66219; SEI, One Freedom Valley Drive, Oaks, Pennsylvania 19456; the Bureau of Indian Affairs, Southwest Region, Albuquerque Data Center, 1001 Indian School Road, Albuquerque, New Mexico 87109; the OST, U.S. Department of the Interior, 1849 C Street NW., Washington, DC 20240; other DOI and Office of the Secretary program offices; OST regional and field offices; offices of contractors; and offices of Indian Tribes that administer the IIM account program under Indian Self-Determination or Self-Governance contracts or compacts.

Categories of Individuals Covered by the System:

Individuals covered by the system include individual Indians and Alaskan Natives (or their heirs), Indian Tribes, current and former Federal employees and contractors who receive IIM account information or are IIM account holders, owners of land held in trust or restricted status by the Federal Government, and DOI employees, contractors, and officials acting in their official capacity to administer program activities. Additionally, this system contains information regarding individuals owning purchasable fractional interests in land or who may be interested in participating in the Land Buy-Back Program; members of the public, including individuals who make inquiries about the Cobell Settlement payments, acquaintances of IIM account holders, depositors into and claimants against IIM accounts, individuals who lease, contract, or who are permit holders on Indian lands, and individuals with whom OST conducts business.

The system contains information about private organizations that provide contact information about individual Indian account holders whose whereabouts are unknown to OST, and records concerning corporations and other business entities, which are not subject to the Privacy Act. However, records pertaining to individuals acting on behalf of corporations and other business entities may reflect personal information.

Categories of Records in the System:

Records in this system include IIM account and Tribal trust fund account records such as financial documents, account reconciliation information, disbursements, investments, bonds, transfers, and historical statements of account, which contain the following information: Names, aliases, addresses, gender, dates of birth, dates of death, telephone numbers, email addresses and other contact information, Social Security numbers, IIM account numbers, Tribal affiliation (membership), Tribal enrollment numbers, blood quantum, bank routing numbers, bank account numbers, taxpayer identification numbers, guardianship information, and Tribal trust account codes. Records also include documents related to financial and investment activity, custodianship of investments for IIM accounts and Tribal trust fund accounts. Financial documents, transaction data regarding receipts, disbursements, investments and transfers, and contact information for individuals who may know the whereabouts of unknown locations of beneficiaries is also included in this system.

Records also include data regarding IIM accounts that may be obtained from the OST Accounting Reconciliation Tool system, Trust Funds Accounting System (TFAS), and the Bureau of Indian Affairs (BIA) Trust Asset and Accounting Management System (TAAMS). These records help reconcile IIM accounts and may include land ownership, official correspondence, appraisals, maps, purchase offers, and other documents related to land consolidation efforts and program activities that may include name, address, email address, phone number, date of birth, age, Social Security number, Tribal enrollment number, land ownership interests in restricted or fractioned lands, and other information related to these program activities.

Authority for Maintenance of the System:

American Indian Trust Fund Management Reform Act of 1994, Public Law 103-412, 108 Stat. 4239; 25 U.S.C. 42, American Indian Trust Fund Management Reform; 25 U.S.C. 116, 117(a)(b)(c), 118, 119, 120, 121, 151, 159, 161(a), 162(a), 4011, 4043(b)(2)(B).

Routine Uses of Records Maintained in the System, Including Categories of Users and the Purposes of Such Uses:

The IIM Trust Funds system of records is used to manage the collection, investment, distribution, and disbursement of IIM account and Tribal trust fund income; comply with the American Indian Trust Fund Management Reform Act of 1994 (Pub. L. 103-412, 108 Stat. 4239); improve accountability and management of Indian funds held in trust by the Government; provide trust services and information for Indian trust funds program management; manage beneficiary contact including inquiries and requests regarding their trust assets; provide IIM account status to IIM account holders; locate IIM account holders whose whereabouts are currently unknown; document trust account transaction history and quarterly statements; and transfer electronic data to the Department of the Treasury for the processing of IIM account and Tribal trust fund account payments. It also supports DOI land consolidation activities and provides an interface to TAAMS, a system of record for title and land resource management of Indian trust land within DOI and the Bureau of Indian Affairs (BIA).

In addition to those disclosures generally permitted under 5 U.S.C. 552a(b) of the Privacy Act, all or a portion of the records or information contained in this system may be disclosed outside DOI as a routine use pursuant to 5 U.S.C. 552a(b)(3) as follows:

(1) (a) To any of the following entities or individuals, when the circumstances set forth in paragraph (b) are met:

(i) The U.S. Department of Justice (DOJ);

(ii) A court or an adjudicative or other administrative body;

(iii) A party in litigation before a court or an adjudicative or other administrative body; or

(iv) Any DOI employee acting in his or her individual capacity if DOI or DOJ has agreed to represent that employee or pay for private representation of the employee;

(b) When:

(i) One of the following is a party to the proceeding or has an interest in the proceeding:

(A) DOI or any component of DOI;

(B) Any other Federal agency appearing before the Office of Hearings and Appeals;

(C) Any DOI employee acting in his or her official capacity;

(D) Any DOI employee acting in his or her individual capacity if DOI or DOJ has agreed to represent that employee or pay for private representation of the employee;

(E) The United States, when DOJ determines that DOI is likely to be affected by the proceeding; and

(ii) DOI deems the disclosure to be:

(A) Relevant and necessary to the proceeding; and

(B) Compatible with the purpose for which the records were compiled.

(2) To a congressional office in response to a written inquiry that an individual covered by the system, or the heir of such individual if the covered individual is deceased, has made to the office.

(3) To any criminal, civil, or regulatory law enforcement authority (whether Federal, state, territorial, local, Tribal or foreign) when a record, either alone or in conjunction with other information, indicates a violation or potential violation of law—criminal, civil, or regulatory in nature, and the disclosure is compatible with the purpose for which the records were compiled.

(4) To an official of another Federal agency to provide information needed in the performance of official duties related to reconciling or reconstructing data files or to enable that agency to respond to an inquiry by the individual to whom the record pertains.

(5) To Federal, state, territorial, local, Tribal, or foreign agencies that have requested information relevant or necessary to the hiring, firing or retention of an employee or contractor, or the issuance of a security clearance, license, contract, grant or other benefit, when the disclosure is compatible with the purpose for which the records were compiled.

(6) To representatives of the National Archives and Records Administration to conduct records management inspections under the authority of 44 U.S.C. 2904 and 2906.

(7) To state and local governments and Tribal organizations to provide information needed in response to court order and/or discovery purposes related to litigation, when the disclosure is compatible with the purpose for which the records were compiled.

(8) To an expert, consultant, or contractor (including employees of the contractor) of DOI that performs services requiring access to these records on DOI's behalf to carry out the purposes of the system.

(9) To appropriate agencies, entities, and persons when:

(a) It is suspected or confirmed that the security or confidentiality of information in the system of records has been compromised; and

(b) The Department has determined that as a result of the suspected or confirmed compromise there is a risk of harm to economic or property interest, identity theft or fraud, or harm to the security or integrity of this system or other systems or programs (whether maintained by the Department or another agency or entity) that rely upon the compromised information; and

(c) The disclosure is made to such agencies, entities and persons who are reasonably necessary to assist in connection with the Department's efforts to respond to the suspected or confirmed compromise and prevent, minimize, or remedy such harm.

(10) To the Office of Management and Budget during the coordination and clearance process in connection with legislative affairs as mandated by OMB Circular A-19.

(11) To the Department of the Treasury, as needed, in the performance of their official duties to disburse trust funds and to issue disbursements, Explanation of Payment reports (EOPs), Statements of Performance (including Assets), IRS Form 1099s, Osage Headright Owner's Share of Income, Deductions, etc., and BIA invoices for the use or sale of Indian trust lands and resources, as well as, to recover debts owed to the United States.

(12) To agency contractors who have been engaged to assist the Government in the performance of a contract, grant, cooperative agreement, or other activity related to this system of records and who need to have access to the records in order to perform the activity.

(13) To Indian Tribes entering into a contract or compacts of the trust funds management functions under the Indian Self-Determination and Education Assistance Act, as amended.

(14) To any of the following entities or individuals, when the entity or individual makes a written request for information of owners of any interest in trust or restricted lands, location of the parcel, and the percentage of undivided interest owner by each individual:

(i) To other owners of interests in trust or restricted lands within the same Indian Reservation;

(ii) To Tribes that exercise jurisdiction over the land where the parcel is located or any person who is eligible for membership in a Tribe; and

(iii) To any person that is leasing, using or consolidating, or is applying to lease, use or consolidate trust or restricted land or the interest in trust or restricted lands.

(15) To Indian Tribes entering into a contract or compacts of real estate or title functions under the Indian Self-Determination and Education Assistance Act, as amended.

(16) To Indian Tribes (including employees) who (1) operate, or are eligible to operate, land consolidation activities on behalf of DOI, (2) agree to non-disclosure, and (3) submit a request in writing, upon a determination by DOI that such activities shall occur on the Tribe's Reservation within 6 months or less and when the information relates to owners of fractionated land. Information disclosed may include, but not limited to, the following:

(a) Contact information (telephone number, email address);

(b) Relevant personal characteristics of the owner (age, Tribal membership, living/deceased);

(c) Type of ownership, i.e., type of interest, if interest is purchasable;

(d) Transaction status, i.e., has an offer been sent, accepted or rejected, is the owner a willing seller.

(17) To the lineal descendant, heir, or devisee of a deceased individual covered by the system or to any other person entitled to the deceased's trust assets.

(18) To IIM account owners, their heirs, guardians, or agents.

(19) To members of the public, the names of IIM account holders whose whereabouts are unknown and OST is seeking a current address.

(18) To the news media and the public, with the approval of the Public Affairs Officer in consultation with Counsel and the Senior Agency Official for Privacy, where there exists a legitimate public interest in the disclosure of the information, except to the extent it is determined that release of the specific information in the context of a particular case would constitute an unwarranted invasion of personal privacy.

Disclosure to Consumer Reporting Agencies:

Pursuant to 5 U.S.C. 552a(b)(12), disclosures may be made to a consumer reporting agency as defined in the Fair Credit Reporting Act (15 U.S.C. 1681a(f)) or the Federal Claims Collection Act of 1996 (31 U.S.C. 3701(a)(3)).

Policies and Practices for Storing, Retrieving, Accessing, Retaining and Disposing of Records in the System:

Storage:

Records maintained in paper form are stored in file folders in file cabinets. Electronic records are maintained in computer servers, computer hard drives, electronic databases, email, and electronic media such as removable drives, compact disc, magnetic disk, diskette, and computer tapes.

Retrievability:

Records are retrieved by individual names, Social Security numbers, IIM or Tribal trust fund account numbers, Tribe, Tribal enrollment or census numbers, Tribal codes, electronic ticket numbers, contact names, and call numbers or incident numbers. Identifiers may also be linked to appraisals, parcels, or encumbrances on ownership.

Safeguards:

The records contained in this system are safeguarded in accordance with 43 CFR 2.226 and other applicable security and privacy policies and standards. During normal hours of operation, paper records are maintained in locked file cabinets under the control of authorized personnel. Computerized records systems follow the National Institute of Standards and Technology standards as developed to comply with the Privacy Act of 1974 (Pub. L. 93-579), Paperwork Reduction Act of 1995 (Pub. L. 104-13), Federal Information Security Management Act of 2002 (Pub. L. 107-347), and the Federal Information Processing Standards 199, Standards for Security Categorization of Federal Information and Information Systems. Computer servers in which electronic records are stored are located in secured DOI and contractor facilities. Access to records in the system is limited to authorized personnel who have a need to access the records in the performance of their official duties. Electronic data is protected through user identification, passwords, database permissions and software controls. Such security measures establish different access levels for different types of users associated with pre-defined groups and/or bureaus. Each user's access is restricted to only the functions and data necessary to perform that person's job responsibilities. Access can be restricted to specific functions (create, update, delete, view, assign permissions) and is restricted utilizing role-based access. Authorized users are trained and required to follow established internal security protocols and must complete all security, privacy, and records management training and sign the DOI Rules of Behavior. Contract employees with access to the system are monitored by their Contracting Officer's Technical Representative and agency Security Manager. A Privacy Impact Assessment was conducted to ensure that Privacy Act safeguard requirements are met and appropriate privacy controls and safeguards are in place.

Retention and Disposal:

Records in this system are covered by the Indian Affairs Records Schedule records series 6100 and 9000 approved on June 28, 2006, by the National Archives and Records Administration (NARA) Job No. N1-075-04-7 and Job. No. N1-075-06-8. The Indian Fiduciary Financial Trust records are cut off at the end of the fiscal year, maintained in the office two years after cut off, and then retired to the American Indian Records Repository (AIRR), Federal Records Center, Lenexa, Kansas. Subsequent legal transfer of the records to the National Archives of the United States will be in accordance with the signed Standard Form 258, Agreement to Transfer Records to the National Archives of the United States. Historical Trust Accounting records are cut off at fiscal year-end, maintained in the office of records for a maximum of 5 years after cut off, and then retired to the AIRR, Federal Records Center, Lenexa, Kansas. Subsequent legal transfer of the records to the National Archives of the United States will be as jointly agreed to between the U.S. Department of the Interior and NARA. Temporary records are maintained and disposed of in accordance with the General Records Schedule for the appropriate record type (including data backup tapes or copies).

System Manager and Address:

Chief of Staff, Office of the Special Trustee for American Indians, 1849 C Street NW., Room 3254, Washington, DC 20240.

Notification Procedures:

An individual requesting notification of the existence of records on himself or herself should send a signed, written inquiry to the System Manager identified above. The request envelope and letter should both be clearly marked “PRIVACY ACT INQUIRY.” A request for notification must meet the requirements of 43 CFR 2.235. Provide the following information with your request:

(a) Proof of your identity;

(b) List of all of the names by which you have been known, such as maiden name or alias(es);

(c) Social Security number;

(d) Mailing address;

(e) Tribe, IIM account number, Tribal enrollment, or census number;

(f) BIA home agency; and

(g) Time period(s) during which the records may have been created or maintained, to the extent known by you.

Record Access Procedures:

An individual requesting records on himself or herself should send a signed written request to the System Manager identified above. The request should describe the records sought as specifically as possible. The request envelope and letter should both be clearly marked “PRIVACY ACT REQUEST FOR ACCESS.” A request for access must meet the requirements of 43 CFR 2.238. Provide the following information with your request:

(a) Proof of your identity;

(b) List of all of the names by which you have been known, such as maiden name or alias(es);

(c) Social Security number;

(d) Mailing address;

(e) Tribe, IIM account number, Tribal enrollment, or census number;

(f) BIA home agency;

(g) Time period(s) during which the records may have been created or maintained, to the extent known by you; and

(h) Description or identification of the records you are requesting (including whether you are asking for a copy of all of your records or only a specific part of them) and the maximum amount of money that you are willing to pay for duplication.

Contesting Record Procedures:

An individual requesting corrections or the removal of material from his or her records should send a signed, written request to the System Manager identified above. A request for corrections or removal must meet the requirements of 43 CFR 2.246. Provide the following information with your request:

(a) Proof of your identity;

(b) List of all of the names by which you have been known, such as maiden name or alias(es);

(c) Social Security number;

(d) Mailing address;

(e) Tribe, IIM account number, Tribal enrollment, or census number;

(f) BIA home agency;

(g) Time period(s) during which the records may have been created or maintained, to the extent known by you;

(h) Specific description or identification of the record(s) you are contesting and the reason(s) why you believe the record(s) are not accurate, relevant, timely, or complete; and

(i) Copy of documents or evidence in support of (h) above.

Records Source Categories:

Sources of information in the system include individual Indians and Alaskan Natives (or their heirs), Indian Tribes, current and former Federal employees and contractors who receive IIM account information or are IIM account holders. Records and financial data in this system are also obtained from the OST ART and TFAS, other DOI Bureaus and Offices including BIA, Office of Natural Resources and Revenue, Bureau of Land Management, Office of Hearings and Appeals, and the Office of the Secretary. Information may also be obtained from the DOJ, Department of the Treasury, and other Federal, state and local agencies, and Tribes; Courts of competent jurisdiction, including Tribal courts; and private, financial and business institutions and entities.

Additionally, this system contains information received from members of the public, including individuals who make inquiries about Cobell Settlement payments, acquaintances of IIM account holders, depositors into and claimants against IIM accounts, individuals who lease, contract, or who are permit holders on Indian lands, and individuals with whom OST conducts business. The system also contains information received from private organizations about individual Indian account holders whose whereabouts are unknown to OST; and correspondents, participants, beneficiaries, land owners, and members of the public who participate or are interested in land consolidation or related program activities.

Exemptions Claimed for the System:

None.

[FR Doc. 2015-00038 Filed 1-7-15; 8:45 am]

BILLING CODE 4334-12-P